DEPARTMENT OF JUSTICE

Notice of Lodging of Proposed Consent Decree Under the Comprehensive Environmental Response, Compensation, and Liability Act

On October 28, 2016, the Department of Justice lodged a proposed amended consent decree with the United States District Court for the Western District of New York in the lawsuit entitled United States v. AVX Corporation, Civil No.: 1:98-CV-54.

In this action the United States sought, pursuant to the Comprehensive Environmental Response, Compensation, and Liability Act (“CERCLA”), 42 U.S.C. 9601, et seq., injunctive relief and recovery of response costs regarding the Olean Well Field Superfund Site in Olean, New York. The matter was originally resolved by a consent decree that was approved by the Court in March 1998. The 1998 consent decree implemented a portion of a remedial action selected by the U.S. Environmental Protection Agency in a September 1996 record of decision (also known as the “Operable Unit 2 ROD” or “OU2 ROD”). The 1998 consent decree required AVX Corporation to perform the portion of the Operable Unit 2 remedial action that was at an area of the site known as the “AVX Property” and to reimburse the United States for a portion of its response costs incurred at the site.

On September 30, 2015, EPA issued an amendment to the OU2 ROD, which documented EPA's decision regarding a modification to the remedy to be implemented at the AVX Property. The proposed amended consent decree that was lodged with the Court on October 28 requires AVX Corporation to implement the amended remedy at the AVX Property, and to reimburse the United States for its future response costs regarding the AVX Property. The settlement maintains the resolution of the United States' claims against AVX Corporation regarding the site.

The publication of this notice opens a period for public comment on the proposed amended consent decree. Comments should be addressed to the Assistant Attorney General, Environment and Natural Resources Division, and should refer to United States v. AVX Corporation, Civ. No. 1:98-CV-54, D.J. Ref. No. 90-11-3-181B. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed amended consent decree may be examined and downloaded at this Justice Department Web site: https://www.justice.gov/enrd/consent-decrees. We will provide a paper copy of the proposed amended consent decree upon written request and payment of reproduction costs. Please mail your request and payment to: Consent Decree Library, U.S. DOJ—ENRD, P.O. Box 7611, Washington, DC 20044-7611.

Please enclose a check or money order for $61.25 (25 cents per page reproduction cost) payable to the United States Treasury.

Robert E. Maher, Jr.,
Assistant Section Chief, Environmental Enforcement Section, Environment and Natural Resources Division.

[FR Doc. 2016-26503 Filed 11-2-16; 8:45 am]

BILLING CODE 4410-15-P